DEPARTMENT OF COMMERCE

Bureau of Industry and Security

15 CFR Parts 738 and 740

[Docket No. 061101286-6286-01]

RIN 0694-AD85

Addition of “Montenegro” and “Serbia” as Separate Countries in the Export Administration Regulations Based on U.S. Recognition of Montenegro as a Sovereign State

AGENCY: Bureau of Industry and Security, Commerce.

ACTION: Final rule.

SUMMARY: The Bureau of Industry and Security (BIS) is amending the Export Administration Regulations (EAR) to add “Montenegro” and “Serbia” as separate countries in the EAR and to establish separate export licensing requirements for Montenegro and Serbia. BIS is taking this action to update the EAR to reflect the United States' recognition of Montenegro as a sovereign state by the United States.

EFFECTIVE DATE: This rule is effective November 27, 2006.

ADDRESSES: Although this is a final rule, comments are welcome and should be sent to publiccomments@bis.doc.gov, by fax to (202) 482-3355, or to Jeffery Lynch, Regulatory Policy Division, Bureau of Industry and Security, Department of Commerce, P.O. Box 273, Washington, DC 20044. Please refer to regulatory identification number (RIN) 0694-AD85 in all comments, and in the subject line of email comments. Comments on the collection of information should be sent to David Rostker, Office of Management and Budget (OMB) by e-mail to David_Rostker@omb.eop.gov, or by fax to (202) 395-7285.

FOR FURTHER INFORMATION CONTACT: Joan M. Maloney-Roberts, Foreign Policy Division, Office of Nonproliferation Treaty Compliance, Bureau of Industry and Security, Telephone: (202) 482-4196.

SUPPLEMENTARY INFORMATION: This final rule deletes “Serbia and Montenegro” and adds “Montenegro” and “Serbia” as separate entries on the Commerce Country Chart in Supplement No. 1 to part 738 of the EAR for export licensing purposes. In a press release dated June 13, 2006, the U.S. Department of State announced that the United States recognized Montenegro as a sovereign state based on an internationally recognized May 21, 2006 referendum. See Press Release, U.S. Department of State, U.S. Recognizes Montenegro as Independent State (June 13, 2006), available at http://www.state.gov/secretary/rm/2006/67839.htm. Previously, the EAR referred to “Serbia and Montenegro” as one country. This final rule also updates references to “Serbia and Montenegro” in part 740 of the EAR to reflect Montenegro's legal separation from the state union of Serbia and Montenegro.

Specifically, this rule amends the EAR as follows:

1. In Supplement No. 1 to part 738 of the EAR, the Commerce Country Chart is amended by removing “Serbia and Montenegro” and by adding “Montenegro” and “Serbia.” This amendment does not affect any of the license requirements indicated on the Commerce Country Chart, since the Commerce Control List based license requirements that apply to “Montenegro” and “Serbia” are the same as those that applied to “Serbia and Montenegro” prior to the publication of this rule.

2. In Supplement No. 1 to part 740 of the EAR (Country Groups), Country Group B is amended by removing “Serbia and Montenegro” and adding “Montenegro” and “Serbia”.

3. Section 740.7(d)(1) of the EAR (Computer Tier 3 destinations) is amended by removing “Serbia and Montenegro” and adding “Montenegro” and “Serbia” for License Exception APP purposes.

Although the Export Administration Act expired on August 20, 2001, the President, through Executive Order 13222 of August 17, 2001, 3 CFR, 2001 Comp., p. 783 (2002), as extended by the Notice of August 3, 2006, 71 FR 44551 (August 7, 2006), has continued the Export Administration Regulations in effect under the International Emergency Economic Powers Act.

Rulemaking Requirements

1. This final rule has been determined to be not significant for purposes of E.O. 12866.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number. This rule contains a collection of information subject to the requirements of the PRA. This collection has previously been approved by OMB under Control Number 0694-0088 (Multi-Purpose Application), which carries a burden hour estimate of 58 minutes to prepare and submit form BIS-748. This rule is not expected to result in any change for collection purposes. Send comments regarding this burden estimate or any other aspect of this collection of information, including suggestions for reducing the burden, to David Rostker, Office of Management and Budget (OMB), and to the Regulatory Policy Division, Bureau of Industry and Security, Department of Commerce, as indicated in the ADDRESSES section of this rule.

3. This rule does not contain policies with Federalism implications as this term is defined under Executive Order 13132.

4. The provisions of the Administrative Procedure Act (5 U.S.C. 553) requiring notice of proposed rulemaking, the opportunity for public participation, and a delay in effective date, are inapplicable because this regulation involves a military and foreign affairs function of the United States (5 U.S.C. 553(a)(1)). Further, no other law requires that a notice of proposed rulemaking and an opportunity for public comment be given for this final rule. Because a notice of proposed rulemaking and an opportunity for public comment are not required to be given for this rule under 5 U.S.C. 553 or by any other law, the analytical requirements of the Regulatory Flexibility Act (5 U.S.C. 601 et seq.) are not applicable.

Therefore, this regulation is issued in final form. Although there is no formal comment period, public comments on this regulation are welcome on a continuing basis. Comments should be submitted to publiccomments@bis.doc.gov, by fax to (202) 482-3355, or to Jeffery Lynch, Regulatory Policy Division, Bureau of Industry and Security, Department of Commerce, P.O. Box 273, Washington, DC 20044.

List of Subjects

15 CFR Part 738

Administrative practice and procedure, Exports, Foreign trade.

15 CFR Part 740

Administrative practice and procedure, Exports, Foreign trade, Reporting and recordkeeping requirements.

Accordingly, parts 738 and 740 of the Export Administration Regulations (15 CFR parts 730-774) are amended as follows:

PART 738—[AMENDED]

1. The authority citation for 15 CFR part 738 continues to read as follows:

Authority: 50 U.S.C. app. 2401 et seq.; 50 U.S.C. 1701 et seq.; 10 U.S.C. 7420; 10 U.S.C. 7430(e); 18 U.S.C. 2510 et seq.; 22 U.S.C. 287c; 22 U.S.C. 3201 et seq.; 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 13026, 61 FR 58767, 3 CFR, 1996 Comp., p. 228; E.O. 13222, 66 FR 44025, 3 CFR, 2001 Comp., p. 783; Notice of August 3, 2006, 71 FR 44551 (August 7, 2006).

Supplement No. 1 to Part 738 [Amended]

2. Supplement No. 1 to Part 738 is amended by removing the entry for “Serbia and Montenegro” and by adding, in alphabetical order, new entries for “Montenegro” and “Serbia” to read as follows:

Supplement No. 1 to Part 738—Commerce Country Chart
[Reason for control]
Countries | Chemical & Biological Weapons: CB 1 | Chemical & Biological Weapons: CB 2 | Chemical & Biological Weapons: CB 3 | Nuclear Nonproliferation: NP 1 | Nuclear Nonproliferation: NP 2 | National Security: NS 1 | National Security: NS 2 | Missile Tech: MT 1 | Regional Stability: RS 1 | Regional Stability: RS 2 | Firearms Convention: FC 1 | Crime Control: CC 1 | Crime Control: CC 2 | Crime Control: CC 3 | Anti- Terrorism: AT 1 | Anti- Terrorism: AT 2
* * * * * * *
Montenegro | X | X |  | X |  | X | X | X | X | X |  | X | X | X |  |
* * * * * * *
Serbia | X | X |  | X |  | X | X | X | X | X |  | X | X | X |  |
* * * * * * *

PART 740—[AMENDED]

3. The authority citation for 15 CFR part 740 continues to read as follows:

Authority: 50 U.S.C. app. 2401 et seq.; 50 U.S.C. 1701 et seq.; Sec. 901-911, Pub. L. 106-387; E.O. 13026, 61 FR 58767, 3 CFR, 1996 Comp., p. 228; E.O. 13222, 66 FR 44025, 3 CFR, 2001 Comp., p. 783; Notice of August 3, 2006, 71 FR 44551 (August 7, 2006).

§ 740.7 [Amended]

4. In Section 740.7, paragraph (d)(1) is amended by revising the phrase “Mongolia, Morocco, Oman, Pakistan, Qatar, Russia, Serbia and Montenegro, Saudi Arabia, Serbia Tajikistan” to read “Mongolia, Montenegro, Morocco, Oman, Pakistan, Qatar, Russia, Saudi Arabia, Serbia, Tajikistan,”.

Supplement No. 1 to Part 740 [Amended]

5. In Supplemental No. 1 to part 740, Country Group B is amended by removing “Serbia and Montenegro” and by adding, in alphabetical order, “Montenegro” and “Serbia”.

Dated: November 16, 2006.
Christopher A. Padilla,
Assistant Secretary for Export Administration.

[FR Doc. 06-9414 Filed 11-24-06; 8:45 am]

BILLING CODE 3510-33-M